ENVIRONMENTAL PROTECTION AGENCY

[EPA-HQ-OAR-2013-0711; FRL-10548-01-OMS]

Information Collection Request Submitted to OMB for Review and Approval; Comment Request; Data Requirements Rule for the 1-Hour Sulfur Dioxide Primary National Ambient Air Quality Standard (Renewal)

AGENCY: Environmental Protection Agency (EPA).

ACTION: Notice.

SUMMARY: The Environmental Protection Agency (EPA) has submitted a renewal of an information collection request (ICR), Data Requirements Rule for the 1-Hour Sulfur Dioxide Primary National Ambient Air Quality Standard (EPA ICR Number 2495.05, OMB Control Number 2060-0696) to Office of Management and Budget (OMB) for review and approval in accordance with the Paperwork Reduction Act (PRA). This notice is a proposed extension of the ICR, which is currently approved through December 31, 2022. Public comments were previously requested via the Federal Register on October 11, 2022, during a 60-day comment period. This notice allows for an additional 30 days for public comment.

DATES: Additional comments may be submitted on or before January 27, 2023.

ADDRESSES: Submit your comments to EPA, referencing Docket ID No. EPA-HQ-OAR-2013-0711 online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sydney Lawrence, Office of Air Quality Planning and Standards, Air Quality Policy Division, C504-05, U.S. Environmental Protection Agency, Research Triangle Park, NC; telephone number: (919) 541-4768; email address: lawrence.sydney@epa.gov.

SUPPLEMENTARY INFORMATION: Supporting documents, which explain in detail the information that the EPA will be collecting, are available in the public docket for this ICR. The docket can be viewed online at www.regulations.gov or in person at the EPA Docket Center, WJC West, Room 3334, 1301 Constitution Avenue NW, Washington, DC. The telephone number for the Docket Center is (202) 566-1744. For additional information about the EPA's public docket, visit http://www.epa.gov/dockets.

Abstract: This ICR includes estimates for the submission and processing of emissions and emissions-related information and ambient air dispersion modeling reporting and activities, associated with the 40 CFR part 51 Requirements for Preparation, Adoption and Submittal of Implementation Plans, as they apply to the 2010 1-Hour Sulfur Dioxide (SO2) Primary NAAQS. These data and information are collected by various state and local air quality management agencies and reported to the EPA. State and local air management agencies were required to submit either monitoring or modeling information in order to meet the initial and on-going requirements, as applicable, to characterize air quality concentrations in areas with specific emissions sources identified under the final SO2 Data Requirements Rule (DRR). This proposed ICR Renewal adopts (with some revisions) the estimates contained in the original ICR, and it includes burden estimates for the development, submittal, and processing of the information described above to meet ongoing requirements under the DRR during the period January 1, 2023-December 31, 2025. For those state and local air management agencies that chose to conduct ambient monitoring rather than air quality modeling to characterize air quality around specific emissions sources during the initial phase of DRR implementation (2016), such monitoring is required by subpart BB of part 51, and information collections associated with initial ambient air quality monitoring required under part 51 were initially included in the prior versions of the DRR ICR. Currently, the DRR requires that ongoing monitoring continue to meet the operational constraints and requirements in 40 CFR part 58, and any collections associated with ongoing monitoring under the DRR are now covered by the part 58 ICR (EPA ICR No. 0940.29; OMB No. 2060-0084). Therefore, ongoing collections of ambient monitoring data have been removed from coverage by the DRR ICR to avoid duplicative burden calculations. Future renewals of the part 58 ICR will continue to cover any collections of ongoing ambient air monitoring data that were initiated under subpart BB of part 51, so long as any of those monitors continues to operate.

Form Numbers: None.

Respondents/affected entities: State, local and tribal air pollution management control agencies.

Respondent's obligation to respond: Mandatory (40 CFR part 51).

Estimated number of respondents: 36 states, providing emissions and in some cases air quality modeling for 137 sources.

Frequency of response: Annually for ongoing modeling annual report.

Total estimated burden: Specific hours for modeling not estimated, all labor is reported in the estimated cost for modeling. Burden is defined at 5 CFR 1320.03(b).

Total estimated cost: $3,014,000 (per year) for modeling.

Changes in Estimates: Air agencies that elected under subpart BB of part 51 to conduct ambient monitoring for listed DRR sources are responsible for collecting ambient air quality data information and submitting these data electronically to EPA's Air Quality System (AQS) and other voluntary databases. While information collections associated with initial ambient air quality monitoring under part 51 were included in the prior version of the DRR ICR, any collections associated with ongoing monitoring are now covered by the part 58 ICR for ambient monitoring. This information collection and the associated burden are captured under the Ambient Air Quality Surveillance 40 CFR part 58 ICR (OMB #2060-0084, EPA ICR# 0940.29). Ongoing collections have been removed from the DRR ICR to avoid duplicative burden calculations.

The prior renewal of this ICR estimated a maximum possible burden of $5,100,000 annually for modeling sources. This ICR renewal, estimating a range of $150,700 to $3,014,000 annually, reflects a decrease in the maximum possible burden of $2,086,000 annually for modeling sources. This decrease is due to the reduced number of listed sources for which states chose to conduct air quality modeling to meet their DRR requirements.

Courtney Kerwin,
Director, Collection Strategies Division.

[FR Doc. 2022-28281 Filed 12-27-22; 8:45 am]

BILLING CODE 6560-50-P